DEPARTMENT OF HOUSING AND URBAN DEVELOPMENT

[Docket No. FR-4950-N-14B]

Notice of HUD's Fiscal Year (FY) 2005 Notice of Funding Availability Policy Requirements and General Section to SuperNOFA for HUD's Discretionary Grant Programs; Housing Opportunities for Persons With AIDS (HOPWA); Second Competition—Extension of Application Deadline

AGENCY: Office of the Assistant Secretary for Community Planning and Development, HUD.

ACTION: Notice of Funding Availability (NOFA); notice of extension of application deadline.

SUMMARY: On August 22, 2005, HUD published its NOFA for the Housing Opportunity for Persons With AIDS Program, second competition for Fiscal Year 2005. Because of the effects of Hurricane Katrina, HUD is extending the application deadline for this NOFA.

DATES: The application submission date for the second HOPWA NOFA competition is October 13, 2005.

FOR FURTHER INFORMATION CONTACT: David Vos, Director, Office of HIV/AIDS Housing, Office of Community Planning and Development, Department of Housing and Urban Development, 451 Seventh Street, SW., Room 7212, Washington, DC 20410-7000; telephone 202-708-1934 (this is not a toll-free number). Persons with speech or hearing impairments may access this number through TTY by calling the toll-free Federal Information Relay Service at 800-877-8339.

SUPPLEMENTARY INFORMATION: On March 21, 2005, HUD published its FY2005 SuperNOFA for HUD's Competitive Grant Programs. The Housing Opportunities for Persons with AIDS (HOPWA) Program NOFA competition, which was included in the SuperNOFA, closed on June 9, 2005. After reviewing and rating HOPWA applications submitted in response to the SuperNOFA, HUD anticipated that assistance would remain available for additional awards. As a result, on August 22, 2005 (70 FR 48970), HUD published in the Federal Register a NOFA for a second round of HOPWA funding. The application deadline for the second competition was October 6, 2005. Because of the widespread effects of Hurricane Katrina, HUD is extending the application deadline for the HOPWA second round competition to October 13, 2005.

Dated: September 27, 2005.
Pamela H. Patenaude,
Assistant Secretary, for Community Planning and Development.

[FR Doc. 05-19755 Filed 9-28-05; 3:27 pm]

BILLING CODE 4210-29-P